DEPARTMENT OF THE INTERIOR

National Park Service

[NPS-WASO-NRNHL-DTS#-28529; PPWOCRADI0, PCU00RP14.R50000]

National Register of Historic Places; Notification of Pending Nominations and Related Actions

AGENCY: National Park Service, Interior.

ACTION: Notice.

SUMMARY: The National Park Service is soliciting comments on the significance of properties nominated before July 20, 2019, for listing or related actions in the National Register of Historic Places.

DATES: Comments should be submitted by August 26, 2019.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before July 20, 2019. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ILLINOIS

Champaign County

Downtown Urbana Historic District, Roughly bounded by Illinois, Walnut, Water, Goose Alley, and Cedar Sts., Urbana, SG100004308

Cook County

First Congregational Church, Des Plaines, 766 Graceland Ave., Des Plaines, SG100004310

De Kalb County

Rollo Congregational United Church of Christ, 2471 Weddell St., Earlville, SG100004311

Madison County

Alton Gas & Electric Power House, 700 W. Broadway, Alton, SG100004309

NEW YORK

Dutchess County, Innisfree, 362 Tyrrel Rd., Millbrook, SG100004333

Herkimer County

Case, James H., III and Laura Rockefeller Case, House, 2333 NY 80, Van Hornesville, SG100004334

New York County

Baldwin, James, House, 137 W. 71st, New York, SG100004332

NORTH CAROLINA

Alexander County

Taylorsville Milling Company Roller Mill, 53 2nd Ave. N., Taylorsville, SG100004324

Cabarrus County

Gem Theatre, 111 W. 1st Street, Kannapolis, SG100004322

Caldwell County

Carolina and Northwestern Railway Freight Station, 1407 College Ave. SW, Lenoir, SG100004319

Davidson County

Finch, T. Austin and Ernestine L., House, 17 E. Main St., Thomasville, SG100004321

Forsyth County

Womble, Bunyan S. and Edith W., House, 200 North Stratford Rd., Winston-Salem, SG100004325

Lee County

Sanford Tobacco Company Redrying Plant and Warehouse, 521 Wicker St., Sanford, SG100004323

Nash County

Caromount Mills, Inc.—Burlington Industries, Inc. Plant, 450 W. Ridge St., 910 Carter St., Rocky Mount, SG100004320

OHIO

Delaware County, Ohio Wesleyan University Fraternity Hill Historic District, 4, 9, 10, 15, 19, 20, 23, 30, and 35 Williams Dr., Delaware, SG100004312

Hamilton County

Mill & Dunn Historic District, 100-139 Williams St., 119 Lock St., 200-328 Dunn St., 100-200 Mill St., and 209-327 Wyoming Ave., Cincinnati, SG100004315

Montgomery County

Downtown Dayton Historic District, Roughly bounded by I 75, St. Clair St., west face of Patterson Blvd., Monument Ave., and Sixth St./Norfolk Southern Railroad line, Dayton, SG100004316

OREGON

Multnomah County

Portland Police Block (Boundary Decrease), 209 SW Oak St., Portland, BC100004313

WASHINGTON

King County

Matzen, George and Irene, House, 320 W. Kinnear Place, Seattle, SG100004329

Baring Bridge, NE Index Creek Rd. off WA 2 over S. Fork of Skykomish River, Baring, SG100004331

Spokane County

McMillen—Dyar House, 526 E. 12th Ave., Spokane, SG100004330

Whitman County

Northern Pacific Railway Depot—Pullman, 330 N. Grand Ave., Pullman, SG100004328

A request for removal has been made for the following resource:

OREGON

Multnomah County

Jefferson Substation, 37 SW Jefferson St., Portland, OT80003368

Nominations submitted by Federal Preservation Officers:

The State Historic Preservation Officer reviewed the following nominations and responded to the Federal Preservation Officer within 45 days of receipt of the nominations and supports listing the properties in the National Register of Historic Places.

ARIZONA

Coconino County

Cliffs Ranger Station, 2 mi. E. of Flagstaff in Walnut Canyon National Monument, Flagstaff vicinity, BC100004317

Cliffs Ranger Station, 2 mi. E. of Flagstaff in Walnut Canyon National Monument, Flagstaff vicinity, AD75000220

OHIO

Medina County

United States Post Office, 143 W. Liberty St., Medina, SG100004307

Authority: Section 60.13 of 36 CFR part 60.

Dated: July 23, 2019.
Lisa Deline,
Acting Chief, National Register of Historic Places/National Historic Landmarks Program.

[FR Doc. 2019-17066 Filed 8-8-19; 8:45 am]

BILLING CODE 4312-52-P